DEPARTMENT OF THE INTERIOR

Bureau of Land Management

[CO-933-00-1320-01; COC 71978]

Notice of Public Hearing and Request for Comments on Environmental Assessment, Geologic Engineering Report, and Maximum Economic Recovery for COC-71978; Colorado

AGENCY: Bureau of Land Management, Interior.

ACTION: Notice of public hearing.

SUMMARY: Bureau of Land Management, Colorado State Office, Lakewood, Colorado, hereby gives notice that a public hearing will be held to receive comments on the environmental assessment, geologic engineering report, and maximum economic recovery of Federal coal to be offered. An application for coal lease was filed by New Elk Coal Company, LLC, requesting the Bureau of Land Management offer for competitive lease 1,279.62 acres of Federal coal in Las Animas County, Colorado.

DATES: The public hearing will be held at 6 p.m., March 25, 2010. Written comments should be received no later than March 05, 2010.

ADDRESSES: The public hearing will be held at La Quinta Inn, 2833 Toupal Drive, Trinidad, Colorado 81082. Written comments should be addressed to the Bureau of Land Management, Attn: Melissa Smeins, 3028 E. Main St, Canon City, Colorado 81212. You may also send a fax to 719-269-8599 or e-mail at Melissa_Smeins@co.blm.gov.

FOR FURTHER INFORMATION CONTACT: Melissa Smeins, at the address above, or by telephone at 719-269-8523.

SUPPLEMENTARY INFORMATION: Bureau of Land Management, Colorado State Office, Lakewood, Colorado, hereby gives notice that a public hearing will be held on 6 p.m., March 25, 2010, at the La Quinta Inn at the address given above.

An application for coal lease was filed by New Elk Coal Company, LLC. requesting the Bureau of Land Management offer for competitive lease Federal coal in the lands outside established coal production regions described as:

T. 33 S., R. 67 W., 6th P.M.

Sec. 6, lots 2 to 7, inclusive, and E½SW¼;

Sec. 7, lot 2;

Sec. 17, E½NE¼, NE¼SE¼;

Sec. 18, lots 2 to 4, inclusive, and E½SW¼;

Sec. 19, lot 1, inclusive, and NE¼NW¼, NW¼NE¼;

T. 33 S., R. 68 W., 6th P.M.

Sec. 1, lots 1 & 2, inclusive, S½NE¼, E½SE¼;

Sec. 12, E½NE¼;

Sec. 13, NE¼, NE¼SE¼.

Containing approximately 1,279.62 acres more or less.

The coal resource to be offered is limited to coal recoverable by underground mining methods.

The purpose of the hearing is to obtain public comments on the environmental assessment and on the following items:

1. The method of mining to be employed to obtain maximum economic recovery of the coal,

2. The impact that mining the coal in the proposed leasehold may have on the area, and

3. The methods of determining the fair market value of the coal to be offered.

Written requests to testify orally at the March 25, 2010, public hearing should be received at the Bureau of Land Management Office in Canon City by 12 p.m., March 25, 2010. Those who indicate they wish to testify when they register at the hearing may have an opportunity if time is available.

In addition, the public is invited to submit written comments concerning the fair market value and maximum economic recovery of the coal resource. Public comments will be utilized in establishing fair market value for the coal resource in the described lands. Comments should address specific factors related to fair market value including, but not limited to:

1. The quality and quantity of the coal resource.

2. The price that the mined coal would bring in the market place.

3. The cost of producing the coal.

4. The interest rate at which anticipated income streams would be discounted.

5. Depreciation and other accounting factors.

6. The mining method or methods which would achieve maximum economic recovery of the coal.

7. Documented information on the terms and conditions of recent and similar coal land transactions in the lease area, and

8. Any comparable sales data of similar coal lands.

Should any information submitted as comments be considered proprietary by the commenter, the information should be labeled as such and stated in the first page of the submission. Written comments on the environmental assessment, maximum economic recovery, and fair market value should be sent to Melissa Smeins at the above address prior to close of business on March 05, 2010. Substantive comments, whether written or oral, will receive equal consideration prior to any lease offering.

The environmental assessment, maximum economic recovery report, and comments submitted by the public will be available from the Bureau of Land Management Field Office in Canon City (see above) upon request.

A copy of the environmental assessment, the maximum economic recovery report, the case file, and the comments submitted by the public, except those portions identified as proprietary by the commenter and meeting exemptions stated in the Freedom of Information Act, will be available for public inspection at the Colorado State Office, 2850 Youngfield, Lakewood, Colorado 80215.

Dated: December 9, 2009.
Kurt M. Barton,
Land Law Examiner, Solid Minerals.

[FR Doc. E9-29980 Filed 12-16-09; 8:45 am]

BILLING CODE P